DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: National Practitioner Data Bank for Adverse Information on Physicians and Other Health Care Practitioners: Regulations and Forms (OMB No. 0915-0126)—Revision

The National Practitioner Data Bank (NPDB) was established through Title IV of Public Law 99-660, the Health Care Quality Improvement Act of 1986, as amended. Final regulations governing the NPDB are codified at 45 CFR part 60. Responsibility for NPDB implementation and operation resides in the Bureau of Health Professions, Health Resources and Services Administration, U.S. Department of Health and Human Services (DHHS). The NPDB began operation on September 1, 1990.

The intent of Title IV of Public Law 99-660 is to improve the quality of health care by encouraging hospitals, State licensing boards, professional societies, and other entities providing health care services, to identify and discipline those who engage in unprofessional behavior; and to restrict the ability of incompetent physicians, dentists, and other health care practitioners to move from State to State without disclosure of practitioner previous damaging or incompetent performance.

The NPDB acts primarily as a flagging system; its principal purpose is to facilitate comprehensive review of practitioners' professional credentials and background. Information on medical malpractice payments, adverse licensure actions adverse clinical privileging actions, adverse professional society actions, and Medicare/Medicaid exclusions is collected from, and disseminated to, eligible entities. It is intended that NPDB information should be considered with other relevant information in evaluating a practitioner's credentials.

This request is for a revision of reporting and querying forms previously approved on April 30, 1999. The reporting forms and the request for information forms (query forms) must be accessed, completed, and submitted to the NPDB electronically through the NPDB website at www.npdb-hipdb.com. All reporting and querying is performed through this secure website.

This request also includes changes to the NPDB forms as a result of the potential implementation of section 1921 of the Social Security Act (section 1921), which is now being considered. Section 1921 expands the scope of the NPDB by permitting additional entities such as agencies administering Federal health care programs, State Medicaid fraud control units, utilization and quality control peer review organizations, and certain law enforcement officials to query the NPDB for adverse licensure actions and other negative actions or findings on health care practitioners and entities licensed or otherwise authorized by a State (or a political subdivision) to provide health care services. Therefore, beginning with section 60.9, sections have been renumbered based on the possible implementation of section 1921. Additionally, due to overlap in requirements for the Healthcare Integrity and Protection Data Bank (HIPDB), some of the NPDB's burden has been subsumed under the HIPDB.

Estimates of burden are as follows:

Regulation citation | Number of respondents | Responses per respondent | Hours per response (minutes) | Total burden hours
Reports
60.6(a) Errors & Omissions | 450 | 4.22 | 15 | 475
60.6(b) Revisions to Actions | 110 | 1.45 | 30 | 80
60.7(b) Medical Malpractice Payment Reports | 660 | 28.03 | 45 | 13,875
60.8(b) Adverse Action Reports—Licensure Actions by Boards of Medical Examiners | ¹ 0 | 0 | 0 | 0
60.9(b) Adverse Action Reports—Licensure Actions: Submission by State Licensing Boards Reporting by State Licensing Authorities | ² 0 | 0 | 0 | 0
60.10 Adverse Action Reports—Negative Actions or Findings: Submission by Peer Review Organization/Accreditation Entity | 58 | 8.62 | 45 | 375
Reporting by State Licensing Authorities | 50 | 10 | 15 | 125
60.11(a) Adverse Action Reports—Clinical Privileges & Professional Society | 1,000 | 1.2 | 45 | 900
60.11(c) Requests for Hearings by Entities | 1 | 1 | 480 | 8
Access to Data (Queries and Self Queries)
60.12(a)(1) Queries by Hospital-Practitioner Applications | 6,000 | 40 | 5 | 20,000
60.12(a)(2) Queries by Hospitals—Two Yr. Cycle | 6,000 | 160 | 5 | 80,000
60.13(a)(1)(i) Disclosures to Hospitals | ³ 0 | 0 | 0 | 0
60.13(a)(1)(ii) Disclosure to Practitioners (Self Queries) | ⁴ 0 | 0 | 0 | 0
60.13(a)(1)(iii) Queries by Practitioner Licensure Boards | 125 | 120 | 5 | 1,250
60.13(a)(1)(iv) Queries by Non-Hospital Health Care Entities | 4,000 | 550 | 5 | 183,333
60.13(a)(1)(v) Queries by Plaintiffs' Attorneys | 5 | 1 | 30 | 3
60.13(a)(1)(vi) Queries by Non-Hospital Health Care Entities-Peer Review | ⁵ 0 | 0 | 0 | 0
60.13(a)(1)(vii) Requests by Researchers for Aggregate Data | 100 | 1 | 30 | 50
60.13(a)(2)(i) through (vi) Queries by section 1921—only Eligible Entities | ⁶ 425 | 276.47 | 5 | 9,792
60.13(a)(2)(vii) Queries by Hospitals and other Health Care Entities | ⁷ 0 | 0 | 0 | 0
60.13(a)(2)(viii) Self Queries by Health Care Practitioners and Entities | ⁸ 0 | 0 | 0 | 0
60.13(a)(2)(ix) Requests by Researchers for Aggregate Data | ⁹ 0 | 0 | 0 | 0
Disputed Reports/Secretarial Reviews
60.16(b) Practitioner Places a Report in Disputed Status | 1,050 | 1 | 15 | 263
60.16(b) Practitioner Requests for Secretarial Review | 115 | 1 | 480 | 920
60.16(b) Practitioner Statement | 2,400 | 1 | 60 | 2,400
Access and Admin. Forms
60.3 Entity Registration—Initial | 2,000 | 1 | 60 | 2,000
60.3 Entity Registration-Update | 1,225 | 1 | 5 | 102
60.13(a) Authorized Agent Designation—Initial | 500 | 1 | 15 | 125
60.13(a) Authorized Agent Designation—Update | 50 | 1 | 5 | 4
60.14(c) Account Discrepancy Report | 300 | 1 | 15 | 75
60.14(c) Electronic Transfer of Funds Authorization | 400 | 1 | 15 | 100
60.3 Entity Registration— Reactivation | 100 | 1 | 60 | 100
Total |  |  |  | 316,355
¹ Included in estimate for reporting of adverse licensure actions to the HIPDB in 45 CFR part 61.
² Included in estimate for reporting of adverse licensure actions to the HIPDB in 45 CFR part 61.
³ Included in estimate for 60.12(a)(1).
⁴ Included in estimate for self queries in the HIPDB in 45 CFR part 61.
⁵ Included in estimate for non-hospital health care entity queries under § 60.13(a)(1).
⁶ Estimate for queries of section 1921 information by boards that license health care practitioners is included in estimate for practitioner licensure boards under § 60.13(a)(1).
⁷ Estimate for queries of section 1921 information by hospitals and other health care entities is included in estimates for queries by hospitals under 60.12(a)(1) and non-hospital health care entities under 60.13(a)(1)(iv).
⁸ Estimate for self queries by health care practitioners and health care entities is included in estimate for self queries in the HIPDB in 45 CFR part 61.
⁹ Included in estimate for 60.13(a)(1)(vii).

Send comments to Susan Queen, Ph.D., HRSA Reports Clearance Officer, Room 11-05, Parklawn Building, 5600 Fishers Lane, Rockville, Maryland 20852, (301) 443-1129. Written comments should be received within 60 days of this notice.

Dated: January 24, 2002.
James J. Corrigan,
Associate Administrator for Operations and Management.

[FR Doc. 02-2297 Filed 1-30-02; 8:45 am]

BILLING CODE 4165-15-P